DEPARTMENT OF TRANSPORTATION

Federal Motor Carrier Safety Administration

[Docket No. FMCSA-2006-26367]

Motor Carrier Safety Advisory Committee and Subcommittee: Public Meeting

AGENCY: Federal Motor Carrier Safety Administration (FMCSA), DOT.

ACTION: Notice of Meeting.

SUMMARY: FMCSA announces that its Motor Carrier Safety Advisory Committee (MCSAC) will meet on February 10-11, 2014, to provide ideas that Agency should consider for reauthorization of the surface transportation legislation. On February 12, 2014, MCSAC's Compliance, Safety and Accountability (CSA) subcommittee will convene. Meetings are open to the public for their entirety and there will be a period of time at the end of each day for the public to submit oral comments.

Times and Dates: The meeting will be held Monday-Tuesday, February 10-11, 2014, from 9 a.m. to 4:30 p.m., Eastern Daylight Time (EDT), at the Hilton Alexandria Old Town, 1767 King Street, Alexandria, VA 22314 in the Washington and Jefferson Rooms on the 2nd floor. On Wednesday, February 12, 2014, the CSA subcommittee will meet at that same location from 9 a.m. to 3 p.m. Copies of the MCSAC Task Statement and an agenda for the entire meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, please contact Ms. Dana Larkin at (617) 494-2821 or dana.larkin@dot.gov by Wednesday, February 5, 2014.

SUPPLEMENTARY INFORMATION:

I. Background

MCSAC was established to provide FMCSA with advice and recommendations on motor carrier safety programs and motor carrier safety regulations. MCSAC is composed of 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC Web site for additional information about the committee's activities at http://mcsac.fmcsa.dot.gov/.

II. Meeting Participation

Oral comments from the public will be heard during the last half-hour of the meetings each day. Should all public comments be exhausted prior to the end of the specified period, the comment period will close. Members of the public may submit written comments on the topics to be considered during the meeting by Wednesday, February 5, 2014, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: January 22, 2014.
Larry W. Minor,
Associate Administrator for Policy.

[FR Doc. 2014-01518 Filed 1-27-14; 8:45 am]

BILLING CODE 4910-EX-P